DEPARTMENT OF THE INTERIOR

Bureau of Land Management

[LLCAC06000.L51010000.ER0000.LVRWB18B6800.18XL1109AF MO#450012099]

Notice of Intent To Prepare an Environmental Impact Statement for the Proposed Plains Pipeline, L.P. Replacement Project in Santa Barbara, San Luis Obispo, and Kern Counties, California

AGENCY: Bureau of Land Management, Interior.

ACTION: Notice of intent.

SUMMARY: In accordance with the National Environmental Policy Act of 1969, as amended (NEPA), and the Federal Land Policy and Management Act of 1976, as amended, the Bureau of Land Management (BLM) Bakersfield Field Office, Bakersfield, California, intends to prepare an Environmental Impact Statement (EIS), analyzing the impacts of a proposal by Plains Pipeline, L.P. to replace its roughly 127-mile pipeline, which includes approximately 14 miles of Federal public lands, in Santa Barbara, San Luis Obispo and Kern counties. This notice announces the beginning of the scoping process to solicit public comments and identify issues.

DATES: This notice initiates the public scoping process for the EIS. Comments on issues may be submitted in writing until June 3, 2019. In order to be included in the analysis, all scoping comments must be submitted in writing and received prior to the close of the 30-day scoping period. We will provide additional opportunities for public participation as appropriate.

ADDRESSES: You may submit comments related to this EIS by any of the following methods:

• Website: https://go.usa.gov/xE5f2.

• Mail: Bakersfield Field Office, Bureau of Land Management, Attn: Plains Pipeline Replacement Project Analysis, 3801 Pegasus Drive, Bakersfield, CA 93308.

Documents pertinent to this proposal may be examined during regular business hours at the Bakersfield Field Office.

FOR FURTHER INFORMATION CONTACT: Jeromy Caldwell, Assistant Field Manager, telephone 661-391-6000; address Bureau of Land Management, 3801 Pegasus Drive, Bakersfield, CA 93308; email BLM_CA_Web_BK@blm.gov. Contact Mr. Caldwell to have your name added to our mailing list. Persons who use a telecommunications device for the deaf (TDD) may call the Federal Relay Service (FRS) at 1-800-877-8339 to contact the above individual during normal business hours. FRS is available 24 hours a day, 7 days a week, to leave a message or question. You will receive a reply during normal business hours.

SUPPLEMENTARY INFORMATION: Plains Pipeline, L.P. filed a right-of-way application on January 9, 2018, for the replacement and abandonment of approximately 127 miles of existing oil pipelines. The project spans multiple local, State and Federal jurisdictions.

On August 7, 2018, the U.S. Department of the Interior determined the project would be addressed under the Fixing America's Surface Transportation Act (FAST-41).

The purpose of the public scoping process is to determine relevant issues that will influence the scope of the environmental analysis, including alternatives, if necessary, and guide the planning process. The BLM, other Federal, State, and local agencies and other stakeholders have identified the following preliminary issues: Air and atmospheric values, water quality and quantity, cultural resources, paleontological resources, and special status species. The BLM will address reasonably foreseeable impacts to resources from approval of this project. Mitigation may include avoidance, minimization, rectification, reduction or elimination over time, and may be considered at multiple scales, including the landscape scale.

The BLM will use the NEPA scoping process to help fulfill public involvement requirements under the National Historic Preservation Act (54 U.S.C. 306108), as provided in 36 CFR 800.2(d)(3). Information about historic and cultural resources within the area potentially affected by the project will assist the BLM in identifying and evaluating impacts to such resources.

The BLM will consult with Indian tribes on a government-to-government basis in accordance with existing law, regulations, and policy. Tribal concerns, including impacts on Indian trust assets and potential impacts to cultural resources, will be given due consideration. Federal, State and local agencies, along with tribes and other stakeholders that may be interested in or affected by the project, are invited to participate in the scoping process and, if eligible, may request or be requested by the BLM to participate in the development of the environmental analysis as a cooperating agency.

The BLM will evaluate issues to be addressed in the analysis, and will place them into one of three categories:

1. Issues to be resolved in the analysis;

2. Issues to be resolved through policy or administrative action; or

3. Issues beyond the scope of the EIS.

The BLM will provide an explanation in the Draft EIS as to why an issue was placed in category two or three. The public is also encouraged to help identify any management questions and concerns that should be addressed in the analysis. The BLM will work collaboratively with interested parties to identify the management decisions that are best suited to local, regional and national needs and concerns.

Before including your address, phone number, email address, or other personally identifiable information in your comment, you should be aware that your entire comment—including your personally identifiable information—may be made publicly available at any time. While you can ask us in your comment to withhold your personally identifiable information from public review, we cannot guarantee that we will be able to do so.

Authority: 40 CFR 1501.7 and 43 CFR 1610.2).

Danielle K. Chi,
BLM California Deputy State Director, Natural Resources, Planning and Fire.

[FR Doc. 2019-08847 Filed 5-2-19; 8:45 am]

BILLING CODE 4310-40-P